DEPARTMENT OF STATE

[Public Notice: 12371]

Notice of Shipping Coordinating Committee Meeting in Preparation for International Maritime Organization (IMO) Maritime Safety Committee (MSC 108) Meeting

The Department of State will conduct a public meeting at 09:00 a.m. on Tuesday, May 7, 2024, both in-person at Coast Guard Headquarters in Washington, DC, and via teleconference. The primary purpose of the meeting is to prepare for the 108th session of the International Maritime Organization's (IMO) Maritime Safety Committee (MSC 108) to be held in London, United Kingdom, from Wednesday, May 15, 2024, to Friday, May 24, 2024.

Members of the public may participate up to the capacity of the teleconference line, which will handle 500 participants, or up to the seating capacity of the room if attending in-person. The meeting location will be the United States Coast Guard Headquarters, and the teleconference line will be provided to those who RSVP. To RSVP, participants should contact the meeting coordinator, LT Emily Rowan, by email at Emily.K.Rowan@uscg.mil. LT Rowan will provide access information for in-person and virtual attendance.

The agenda items to be considered include:

—Adoption of the agenda

—Decisions of other IMO bodies

—Consideration and adoption of amendments to mandatory instruments

—Development of a goal-based instrument for Maritime Autonomous Surface Ships (MASS)

—Development of a safety regulatory framework to support the reduction of GHG emissions from ships using new technologies and alternative fuels

—Revision of the Guidelines on Maritime Cyber Risk Management (MSC-FAL.1/Circ.3/Rev.2) and identification of next steps to enhance maritime cybersecurity

—Measures to enhance maritime security

—Piracy and armed robbery against ships

—Unsafe mixed migration by sea

—Domestic ferry safety

—Formal safety assessment

—Navigation, communication and search and rescue (Report of the tenth session of the Sub-Committee)

—Implementation of IMO instruments (Report of the ninth session of the Sub-Committee)

—Carriage of cargoes and containers (Report of the ninth session of the Sub-Committee)

—Ship design and construction (Report of the tenth session of the Sub-Committee)

—Application of the Committee's method of work

—Work programme

—Any other business

—Consideration of the report of the Committee on its 108th session

Please note: The IMO may, on short notice, adjust the MSC 108 agenda to accommodate any constraints associated with the meeting. Although no changes to the agenda are anticipated, if any are necessary, they will be provided to those who RSVP.

Those who plan to participate should contact the meeting coordinator, LT Emily K. Rowan at emily.k.rowan@uscg.mil, by phone at (202) 372-1376, or in writing at 2703 Martin Luther King Jr. Ave. SE, Stop 7509, Washington, DC 20593-7509 no later than April 23, 2024, 14 days prior to the meeting. Requests made after April 23, 2024, might not be able to be accommodated. The meeting coordinator will provide the teleconference information, facilitate the building security process and requests for reasonable accommodation. Please note that due to security considerations, two valid, government issued photo identifications must be presented to gain entrance to the Douglas A. Munro Coast Guard Headquarters Building at St. Elizabeth's. This building is accessible by taxi, public transportation, and privately owned conveyance (upon advanced request).

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-07344 Filed 4-5-24; 8:45 am]

BILLING CODE 4710-09-P